INTERNATIONAL TRADE COMMISSION

[Investigation Nos. 701-TA-528-529 and 731-TA-1264-1268 (Review)]

Uncoated Paper From Australia, Brazil, China, Indonesia, and Portugal

Determinations

On the basis of the record ¹ developed in the subject five-year reviews, the United States International Trade Commission (“Commission”) determines, pursuant to the Tariff Act of 1930 (“the Act”), that revocation of the countervailing duty orders on uncoated paper from China and Indonesia and the antidumping duty orders on uncoated paper from Australia, Brazil, China, Indonesia, and Portugal would be likely to lead to continuation or recurrence of material injury to an industry in the United States within a reasonably foreseeable time.

¹ The record is defined in § 207.2(f) of the Commission's Rules of Practice and Procedure (19 CFR 207.2(f)).

Background

The Commission instituted these reviews on February 1, 2021 (86 FR 7734) and determined on May 7, 2021, that it would conduct full reviews (86 FR 27650, May 21, 2021). Notice of the scheduling of the Commission's reviews and of a public hearing to be held in connection therewith was given by posting copies of the notice in the Office of the Secretary, U.S. International Trade Commission, Washington, DC, and by publishing the notice in the Federal Register on July 23, 2021 (86 FR 39057). The Commission conducted its hearing on November 18, 2021. All persons who requested the opportunity were permitted to participate.

The Commission made these determinations pursuant to section 751(c) of the Act (19 U.S.C. 1675(c)). It completed and filed its determinations in these reviews on January 31, 2022. The views of the Commission are contained in USITC Publication 5275 (January 2022), entitled Uncoated Paper from Australia, Brazil, China, Indonesia, and Portugal: Investigation Nos. 701-TA-528-529 and 731-TA-1264-1268 (Review).

By order of the Commission.
Issued: January 31, 2022.
Lisa Barton,
Secretary to the Commission.

[FR Doc. 2022-02293 Filed 2-2-22; 8:45 am]

BILLING CODE 7020-02-P